INTERNATIONAL TRADE COMMISSION

[Investigation No. TA-204-4]

Wheat Gluten: Extension of Action

Determination

On the basis of the information in this investigation, the Commission unanimously determines, pursuant to section 204(c) of the Trade Act of 1974 (Trade Act) (19 U.S.C. 2254(c)), that action under section 203 of the Trade Act with respect to imports of wheat gluten continues to be necessary to prevent or remedy serious injury and that there is evidence that the domestic wheat gluten industry is making a positive adjustment to import competition.

Background

Following receipt of a petition filed on behalf of the Wheat Gluten Industry Council, the Commission, effective November 30, 2000, instituted investigation No. TA-204-4, Wheat Gluten: Extension of Action, under section 204(c) of the Trade Act to determine whether action under section 203 of the Trade Act with respect to imports of wheat gluten continues to be necessary to prevent or remedy serious injury and whether there is evidence that the domestic wheat gluten industry is making a positive adjustment to import competition.

Notice of the institution of the Commission's investigation and of a public hearing to be held in connection therewith was given by posting copies of the notice in the Office of the Secretary, U.S. International Trade Commission, Washington, DC, and by publishing the notice in the Federal Register on December 21, 2000 (65 FR 80455). The hearing was held in Washington, DC, on February 27, 2001, and all persons who requested the opportunity were permitted to appear in person or by counsel.

The Commission transmitted its determination in this investigation to the President on April 2, 2001. The views of the Commission are contained in USITC Publication 3407 (April 2001), entitled Wheat Gluten: Extension of Action, Investigation No. TA-204-4.

Issued: April 5, 2001.
By order of the Commission.
Donna R. Koehnke,
Secretary.

[FR Doc. 01-8908 Filed 4-10-01; 8:45 am]

BILLING CODE 7020-02-P